ENVIRONMENTAL PROTECTION AGENCY

[FRL-7022-1]

Agency Information Collection Activities: Submission for OMB Review; Comment Request; National Oil and Hazardous Substance Contingency Plan

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: National Oil and Hazardous Substances Pollution Contingency Plan, EPA ICR No. 1463.05, OMB No. 2050-0096, expiring on July 31, 2001. The ICR describes the nature of the information collection and its expected burden and cost; where appropriate, it includes the actual data collection instrument.

DATES: Comments must be submitted on or before August 31, 2001.

ADDRESSES: Send comments, referencing EPA ICR No. 1463.05 and OMB Control No. 2050-0096, to the following addresses: Sandy Farmer, U.S. Environmental Protection Agency, Collection Strategies Division (Mail Code 2822), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at Farmer.sandy@epamail.epa.gov, or download off the Internet at http://www.epa.gov/icr and refer to EPA ICR No. 1463.05. For technical questions about the ICR contact Lois Gartner by phone at (703) 603-8889 or by E-mail at Gartner.Lois@epa.gov.

SUPPLEMENTARY INFORMATION: Title: National Oil and Hazardous Substances Pollution Contingency Plan (OMB Control No. 2050-0096; EPA ICR No. 1463.05) expiring July 31, 2001. This ICR is an extension of a currently approved collection.

Abstract: This ICR addresses the recordkeeping and reporting provisions of the National Oil and Hazardous Substances Pollution Contingency Plan (NCP; 40 CFR part 300) for states that voluntarily participate in the remedial action phase of the Superfund program. The NCP requires states that voluntarily take the lead in remedial activities at Superfund sites to conduct those activities in a manner consistent with CERCLA (40 CFR 300.515(a)). In addition, this ICR addresses the record keeping and reporting provisions of the NCP that affect communities voluntarily providing their concerns to the lead agency about the Superfund process.

EPA funds state activity at 90 percent from the CERCLA Hazardous Substances Response Trust Fund (the Fund) for state-lead activities via cooperative agreements with EPA as provided in CERCLA section 104(d)(1)(42 U.S.C. 9604(d)(1)). States are not reimbursed from the fund for identification of state sites and community members are not reimbursed for participation in community involvement activities. Despite the fact that community members are not reimbursed for their time, this ICR estimates the time costs imposed on community members who voluntarily participate in community activities tied to the Superfund process.

The nature of the data being gathered as part of this information collection is not confidential. Information may be gathered from Potentially Responsible Parties (PRPs) that the PRP considers to be Confidential Business Information (CBI). When PRPs designate information as CBI, EPA follows restricted access procedures in handling the information. Lists of participants in community interview and lists of attendees of public meetings are not confidential. Some data gathered during community interviews may not be releasable, however, due to privacy concerns.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on March 9, 2001 (66 FR 14136); no comments were received.

Burden Statement: The annual public reporting and record keeping burden for this collection of information is estimated to average 572 hours per site for states and 170 hours per site per citizen at 90 percent of Superfund sites. For 10 percent of Superfund sites—those sites where formal community group activities occur—the average is 330 hours per site per citizen. A “unit” burden is the burden incurred by a respondent for performing an individual site-specific activity. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Individuals or households, and state, local or tribal governments.

Estimated Number of Respondents: 4,965.

Frequency of Response: As required.

Estimated Total Annual Hour Burden: 185,860 hours.

Estimated Total Annualized Capital, O&M Cost Burden: $0.

Send comments on the Agency's need for this information, the accuracy of the provided burden estimates, and any suggested methods for minimizing respondent burden, including through the use of automated collection techniques to the addresses listed above. Please refer to EPA ICR No. 1463.05 and OMB Control No. 2050-0096 in any correspondence.

Dated: July 18, 2001.
Oscar Morales,
Director, Collection Strategies Division.

[FR Doc. 01-19164 Filed 7-31-01; 8:45 am]

BILLING CODE 6560-50-P